NUCLEAR REGULATORY COMMISSION

10 CFR Chapter I

[NRC-2015-0167]

Withdrawal of Regulatory Issue Summary 2005-29 and its Draft Revision 1 Anticipated Transients That Could Develop Into More Serious Events

AGENCY: Nuclear Regulatory Commission.

ACTION: Regulatory issue summary; withdrawal.

SUMMARY: The U.S. Nuclear Regulatory Commission (NRC) is withdrawing the Regulatory Issue Summary (RIS) 2005-29 and its draft Revision 1, “Anticipated Transients that Could Develop into More Serious Events.” These documents are being withdrawn because the NRC staff identified several regulatory and technical positions within the RIS and draft Revision 1 that either required clarification, were no longer supported, or were identified as a new agency position.

DATES: The effective date of the withdrawal of the RIS 2005-29 and its draft Revision 1, “Anticipated Transients that Could Develop into More Serious Events,” is June 20, 2019.

ADDRESSES: Please refer to Docket ID NRC-2015-0167 when contacting the NRC about the availability of information regarding this document. You may obtain publicly-available information related to this document using any of the following methods:

• Federal Rulemaking website: Go to http://www.regulations.gov and search for Docket ID NRC-2015-0167. Address questions about NRC dockets IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Tekia V. Govan, Office of Nuclear Reactor Regulation, U.S. Nuclear Regulatory Commission, Washington, DC 20555-0001; telephone: 301-415-6197; email: Tekia.Govan@nrc.gov.

SUPPLEMENTARY INFORMATION:

The NRC issued RIS 2005-29, “Anticipated Transients that Could Develop into More Serious Events,” (ADAMS Accession No. ML051890212) to notify licensees of the concern identified during reviews of power uprate license amendment requests related to licensing bases of certain licensees failing to demonstrate that anticipated transients will not progress to more serious events. The draft Revision 1 of RIS 2005-29 expanded on this concern and offered staff positions that provided technical guidance for the implementation of NRC regulation (ADAMS Accession No. ML15014A469). The NRC is withdrawing RIS 2005-29, and its draft Revision 1, because the staff identified several regulatory and technical positions within the documents that either required clarification, were no longer supported, or were identified as a new agency position. By memorandum, dated May 15, 2019, the NRC staff provides a summary of the basis for withdrawing RIS 2005-29, and its draft Revision 1 (ADAMS Accession No. ML19121A534).

The NRC's generic communication website (https://www.nrc.gov/reading-rm/doc-collections/gen-comm/reg-issues/2005/) will be updated to reflect RIS 2005-29 as withdrawn.

Dated at Rockville, Maryland, this 12th day of June 2019.
For the Nuclear Regulatory Commission.
Tekia V. Govan,
Project Manager, ROP Support and Generic Communication Branch, Division of Inspection and Regional Support, Office of Nuclear Reactor Regulation.

[FR Doc. 2019-12725 Filed 6-19-19; 8:45 am]

BILLING CODE 7590-01-P